DEPARTMENT OF VETERANS AFFAIRS

Advisory Committee on Prosthetics and Special-Disabilities Programs, Amended Notice of Meeting

The Department of Veterans Affairs (VA) gives notice under the Federal Advisory Committee Act (5 U.S.C. app. 2), that a meeting of the Federal Advisory Committee on Prosthetics and Special-Disabilities Programs will be held on Tuesday, October 25-Wednesday, October 26, 2022. The meeting will be a hybrid meeting, held in-person at VA Central Office, 810 Vermont Avenue NW, Washington, DC, Room 630, and virtually via WebEx. The meeting sessions will begin and end as follows:

Date | Time (Eastern standard time)
October 25, 2022 | 9:00 a.m-3:00 p.m.
October 26, 2022 | 9:00 a.m-1:00 p.m.

The meeting sessions are open to the public virtually.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On October 25, 2022, the Committee will convene open (hybrid) sessions on Recreation Therapy and Creative Arts Therapy Service, National Veterans Sports Programs and Special Events, Prosthetic and Sensory Aids Service, Rehabilitation Research and Development Service, and the Office of Integrated Veterans Care.

On October 26, 2022, the Committee members will convene open (hybrid) sessions on Audiology and Speech Pathology Service and Blind Rehabilitation Service.

No time will be allocated at this meeting for receiving oral presentations from the public. However, the public may submit written statements for the Committee's review. Public comments may be received no later than October 17, 2022, for inclusion in the official meeting record. Please send these comments to Dr. Lauren Racoosin, Designated Federal Officer, Rehabilitation and Prosthetic Services, Veterans Health Administration at Lauren.Racoosin@va.gov.

Members of the public should contact Dr. Lauren Racoosin, at Lauren.Racoosin@va.gov and provide your name, professional affiliation, email address, and phone number, who wish to obtain a copy of the agenda. Any member of the public wishing to attend or seeking additional information should contact Dr. Racoosin. Members of the public may attend the meeting only virtually due to room capacity limitations. To join, please use the WebEx link below: https://veteransaffairs.webex.com/veteransaffairs/j.php?MTID=m326ad3b10acfa27572452e9d1c6e1401.

Audio Only 404.397.1596/Access Code 2761 980 5183.

Dated: October 11, 2022.
LaTonya L. Small,
Federal Advisory Committee Management Officer.

[FR Doc. 2022-22378 Filed 10-13-22; 8:45 am]

BILLING CODE P